DEPARTMENT OF DEFENSE

Office of the Secretary

Federal Advisory Committee; Defense Intelligence Agency (DIA) Advisory Board; Closed Meeting

AGENCY: DIA, Department of Defense (DoD).

ACTION: Meeting notice.

SUMMARY: Under the provisions of the Federal Advisory Committee Act of 1972 (5 U.S.C. Appendix 2 (2001)), the Government in the Sunshine Act of 1976 (5 U.S.C. 552b), and 41 CFR 102-3.10, DoD hereby announces that the DIA Advisory Board will meet on January 22, 2013. The meeting is closed to the public. The meeting necessarily includes discussions of classified information relating to DIA's intelligence operations including its support to current operations.

DATES: The meeting will be held on January 22, 2013, from 9:00 a.m. to 4:00 p.m.

ADDRESSES: The meeting will be held at Joint-Base Bolling-Anacostia, Washington, DC.

FOR FURTHER INFORMATION CONTACT: Ms. Ellen M. Ardrey, (202) 231-0800, Designated Federal Officer, DIA Office for Congressional and Public Affairs, Pentagon 1A874, Washington, DC 20340-5100.

Committee's Designated Federal Officer: Ms. Ellen M. Ardrey, (202) 231-0800, DIA Office for Congressional and Public Affairs, Pentagon 1A874, Washington, DC 20340-5100. Ellen.ardrey@dodiis.mil.

SUPPLEMENTARY INFORMATION:

Purpose of the Meeting

For the Advisory Board to discuss DIA operations and capabilities in support of current intelligence operations.

Agenda

January 22, 2013:

|  |  | 9:00 a.m. | Call to Order | Ms. Ellen M. Ardrey, Designated Federal Officer, Mrs. Mary Margaret Graham, Chairman.
9:00 a.m. | Call to Order | Ms. Ellen M. Ardrey, Designated Federal Officer, Mrs. Mary Margaret Graham, Chaiman.
9:00 a.m. | Administrative Business
10:00 a.m. | Classified Discussion with Director, DIA | LTG Michael T. Flynn, USA, Director, DIA.
11:30 a.m. | Working Lunch
12:45 p.m. | Classified Briefing | DIA Staff.
1:30 p.m. | Advisory Board Work Session
3:30 p.m. | Classified Discussion with Director, DIA | LTG Michael T. Flynn, USA, Director, DIA.
4:00 p.m. | Wrap-up/Adjourn

Pursuant to 5 U.S.C. 552b, as amended, and 41 CFR 102-3.155, the Director, DIA, has determined that the meeting shall be closed to the public. The Director, DIA, in consultation with the DIA Office of the General Counsel, has determined in writing that the public interest requires that all sessions of the Board's meetings be closed to the public because they include discussions of classified information and matters covered by 5 U.S.C. 552b(c)(1).

Written Statements

Pursuant to 41 CFR 102-3.105(j) and 102-3.140, and section 10(a)(3) of the Federal Advisory Board Committee Act of 1972, the public or interested organizations may submit written statements at any time to the DIA Advisory Board regarding its missions and functions. All written statements shall be submitted to the Designated Federal Official for the DIA Advisory Board. The Designated Federal Official will ensure that written statements are provided to the Board for its consideration. Written statements may also be submitted in response to the stated agenda of planned board meetings. Statements submitted in response to this notice must be received by the Designated Federal Officer at least five calendar days prior to the meeting which is the subject of this notice. Written statements received after that date may not be provided or considered by the Board until its next meeting. All submissions provided before that date will be presented to the Board before the meeting that is subject of this notice. Contact information for the Designated Federal Officer is listed under FOR FURTHER INFORMATION CONTACT.

Dated: December 28, 2012.
Aaron Siegel,
Alternate OSD Federal Register Liaison Officer, Department of Defense.

[FR Doc. 2012-31579 Filed 1-2-13; 8:45 am]

BILLING CODE 5001-06-P